DEPARTMENT OF ENERGY

International Energy Agency Meeting

AGENCY: Department of Energy.

ACTION: Notice of meetings.

SUMMARY: The Industry Advisory Board (IAB) to the International Energy Agency (IEA) will meet on November 14-16, 2006, at the headquarters of the IEA in Paris, France, including in connection with a joint meeting of the IEA's Standing Group on Emergency Questions (SEQ) and the IEA's Standing Group on the Oil Market on November 14 and 15, and a meeting of the SEQ on November 16.

DATES: November 14-16, 2006.

ADDRESSES: 9, rue de la Fédération, Paris, France.

FOR FURTHER INFORMATION CONTACT: Samuel M. Bradley, Assistant General for International and National Security Programs, Department of Energy, 1000 Independence Avenue, SW., Washington, DC 20585, 202-586-6738.

SUPPLEMENTARY INFORMATION: In accordance with section 252(c)(1)(A)(i) of the Energy Policy and Conservation Act (42 U.S.C. 6272(c)(1)(A)(i)) (EPCA), the following notice of meeting is provided:

Meetings of the Industry Advisory Board (IAB) to the International Energy Agency (IEA) will be held at the headquarters of the IEA, 9, rue de la Fédération, Paris, France, on November 14, 2006, beginning at 10:45 a.m. and continuing on November 15, 2006 at 9 a.m.; at 3 p.m. on November 15, and on November 16, 2006, commencing at 9 a.m. The purpose of this notice is to permit attendance by representatives of U.S. company members of the IAB at a joint meeting of the IEA's Standing Group on Emergency Questions (SEQ) and the IEA's Standing Group on the Oil Market (SOM) on November 14 and 15, at a meeting of the IAB on November 15, and at a meeting of the SEQ on November 16.

The agenda of the joint SEQ/SOM meeting on November 14 and 15 is under the control of the SEQ and the SOM. It is expected that the SEQ and the SOM will adopt the following agenda:

1. Review provisional agenda of the joint SEQ/SOM session.

Part I: Speculation

2. Speculators, index funds and their recent impact on the market: what we know, what we don't know.

3. Index funds: could they influence future supply?

A. Demand

4. The outlook to 2011—which countries, which fuels, how much uncertainty.

5. Economic forecasts—understanding the risks.

B. Supply Outlook

6. World oil supply outlook, supply risks, changes to crude quality?

7. Historical relationship between oil prices and exploration and production investment.

C. Biofuels

8. Biofuels—the outlook to 2011: the value to energy security.

D. Refining

9. Product supply risks—refinery outlook, product balances, potential bottlenecks.

Part II: Energy Security: The Impact of Short- and Medium-Term Issues

10. Setting the scene: current oil and gas market updates.

11. The near-term risks in oil supply disruptions.

12. Completing the picture: oil market balances, risks, and outlook.

13. Medium-term oil market report—closing comments.

The expected agenda of the IAB meeting on November 15, 2006, is as follows:

1. 2006 IEA World Energy Outlook (presentations by IEA).

2. Program of Work of the SEQ for 2007-8 (presentations by IEA).

3. Data collection during emergencies (presentations by IEA and discussion).

4. Potential improvements in emergency stock release procedures (Comments from IAB members and discussion with IEA).

5. Review of agenda for November 16, 2006, SEQ meeting.

The agenda of the SEQ meeting on November 16, 2006 is under the control of the SEQ. It is expected that the SEQ will adopt the following agenda:

1. Adoption of the Agenda.

2. Approval of the Summary Record of the 117th Meeting.

Approval of the Summary Record of the Joint Session of the SEQ/SOM.

3. Status of Compliance with IEP Stockholding Commitments.

— Reports by non-complying Member countries.

4. Program of Work.

—The SEQ Program of Work for 2007-2008.

—SEQ Follow-up Work on Katrina.

—Update on IEA Outreach Strategy.

5. Emergency Response Review Program.

—Emergency response review of Turkey.

—Emergency response review of the Czech Republic.

—Emergency response review of Norway.

—Emergency response review of Japan.

—Emergency response review of France.

—Emergency response review of Korea.

6. Report on Current Activities of the IAB.

7. Policy and Other Developments in Member Countries.

—United States.

—Germany.

8. Other Emergency Response Activities.

—Progress report on study: “A comparative analysis of the IEA emergency oil stockholding systems”.

9. Activities with Non-Member Countries and International Organizations.

—Update on situation of applicant countries.

—Report on IEA/China Workshop on Oil Security, October 30-31, Beijing.

—Reports on upcoming 6th JODI conference in Riyadh, November 25-26 and Training Session on Emergency Preparedness and Statistics for Chinese, October 9-13.

10. Documents for Information.

—Emergency Reserve Situation of IEA Member Countries on July 1, 2006.

—Emergency Reserve Situation of IEA Candidate Countries on July 1, 2006.

—Base Period Final Consumption: 3Q 2005-2Q 2006.

—Monthly Oil Statistics: August 2006.

—Update of Emergency Contacts List.

11. Other Business.

—Dates of Next SEQ Meetings (tentative):

—February 21-22, 2007.

—June 18-19, 2007.

—November 13-15, 2007.

As provided in section 252(c)(1)(A)(ii) of the Energy Policy and Conservation Act (42 U.S.C. 6272(c)(1)(A)(ii)), the meetings of the IAB are open to representatives of members of the IAB and their counsel; representatives of members of the IEA's Standing Group on Emergency Questions and the IEA's Standing Group on the Oil Markets; representatives of the Departments of Energy, Justice, and State, the Federal Trade Commission, the General Accounting Office, Committees of Congress, the IEA, and the European Commission; and invitees of the IAB, the SEQ, the SOM, or the IEA.

Issued in Washington, DC, November 1, 2006.
Samuel M. Bradley,
Assistant General Counsel for International and National Security Programs.

[FR Doc. E6-18751 Filed 11-6-06; 8:45 am]

BILLING CODE 6450-01-P